DEPARTMENT OF TRANSPORTATION

Federal Aviation Administration

Advisory Circular 20-144, Recommended Method for FAA Approval of Aircraft Fire Extinguishing System Components

AGENCY: Federal Aviation Administration, DOT.

ACTION: Notice of issuance of advisory circular.

SUMMARY: This notice announces the issuance of Advisory Circular (AC) 20-144, Recommended Method for FAA Approval of Aircraft Fire Extinguishing System Components. This AC provides guidance on the various aspects that should be considered in the FAA approval process of fire extinguishing system components manufactured under a Production Certificate, components to be FAA approved under the Part Manufacturer Approval process, or design changes to components originally approved by either method. This AC does not constitute a regulation, however, it provides a method, but not the only method, for obtaining approval of aircraft fire extinguishing system components. This is intended to enhance the standardization of all FAA Aircraft Certification Offices and Manufacturing Inspection District Offices in the approval process of the critical components of an aircraft fire extinguishing system.

DATES: Advisory Circular 20-144 was issued by the Acting Manager, Aircraft Engineering Division, AIR-100, on September 22, 2000.

How To Obtain Copies: A paper copy of AC 25.335-1A may be obtained by writing to the U.S. Department of Transportation, Subsequent Distribution Office, DOT Warehouse, SVC-121.23, Ardmore East Business Center, 3341Q 75th Ave., Landover, MD 20785, telephone 301-322-5377, or faxing your request to the warehouse at 301-386-5394. The AC also will be available on the Internet at http://www.faa.gov/avr/air/airhome.htm, at the link titled “Advisory Circulars” under the “Available Information” down-drop menu.

Issued in Renton, Washington, on November 16, 2000.
Donald L. Riggin,
Acting Manager, Transport Airplane Directorate, Aircraft Certification Service, ANM-100.

[FR Doc. 00-31688 Filed 12-12-00; 8:45 am]

BILLING CODE 4910-13-M